DEPARTMENT OF VETERANS AFFAIRS

Notice of Intent To Prepare a Programmatic Environmental Impact Statement of the Department of Veterans Affairs Housing Loan Program

AGENCY: Department of Veterans Affairs.

ACTION: Notice of intent.

SUMMARY: Under the authority of the National Environmental Policy Act (NEPA) and its implementing regulations, VA intends to prepare a Programmatic Environmental Impact Statement (PEIS) to evaluate the potential direct, indirect, and cumulative environmental consequences of continued operation and administration of VA's Housing Loan Program (HLP). VA's reference to the HLP includes federal assistance, administered by the Veterans Benefits Administration (VBA), in the form of loans made, insured, or guaranteed by VA. It also includes housing benefits that can be used in conjunction with the HLP (e.g., the Specially Adapted Housing program). Under the HLP, VBA is also responsible for the management, marketing, and disposition of real estate owned (REO) properties that VA acquires following the foreclosure of certain VA-guaranteed loans and loans held in VA's portfolio. This notice opens the public scoping phase and invites interested parties to identify potential issues, concerns, and reasonable alternatives that should be considered in the PEIS. Following the scoping meeting referenced below, a Draft PEIS will be prepared and circulated for public comment.

DATES: All written comments should be submitted by August 15, 2018.

VA invites federal, state, tribal, and local entities; non-profit organizations; businesses; interested parties; and the general public to comment on the proposed scope and content of the PEIS. VA will consider all scoping comments in developing the PEIS. VA will conduct a public scoping meeting on Thursday, August 2, 2018, from 6:00 to 8:00 p.m. at the Bethesda North Marriott Hotel and Conference Center, 5701 Marinelli Road, Rockville, Maryland 20852. The scoping meeting will afford the public an opportunity to learn more about the project and provide input on the environmental analysis process. During the meeting, VA will provide an overview of the project, as well as details regarding the PEIS scope, purpose, and need. VA will also outline the overall NEPA process. Additionally, VA will post a scoping presentation on a publicly available website during the 30-day scoping period. Such presentation will be available at http://www.benefits.va.gov/homeloans/environmental_impact.asp.

Proposed Actions and Alternatives: VA's Proposed Action is to continue administering the HLP and incorporating programmatic changes as necessitated by amendments to program authorities, Veteran need, market conditions, and factors not foreseen at the time of this publication.

VA's No Action Alternative refers to a scenario wherein VA operates the HLP in a manner consistent with policies and procedures as of fiscal year 2017 (October 1, 2016 through September 30, 2017). The No Action Alternative is being presented as a snapshot in time to provide a baseline from which to compare the Proposed Action. Nevertheless, the No Action Alternative is likely unrealistic, as it assumes that HLP policies and requirements are frozen, and thereby does not account for subsequent programmatic improvements, legislation, Executive Branch directives, or other requirements.

ADDRESSES: Written comments may be submitted through http://www.regulations.gov; by mail or hand delivery to the Director, Office of Regulation Policy and Management (00REG), Department of Veterans Affairs, 810 Vermont Avenue NW, Room 1063B, Washington DC 20420; or by fax to 202-273-9026. Comments should indicate that they are submitted in response to “Notice of Intent to Prepare a Programmatic Environmental Impact Statement of the Department of Veterans Affairs Housing Loan Program”. Copies of comments received will be available for public inspection in the Office of Regulation Policy and Management (00REG), Department of Veterans Affairs, 810 Vermont Ave. NW, Room 1063B, Washington, DC 20420, between the hours of 8:00 a.m. and 4:30 p.m., Monday through Friday (except Federal holidays). Please call (202) 461-4902 (this is not a toll-free number) for an appointment. During the comment period, comments may also be viewed online through the Federal Docket Management System at www.regulations.gov.

FOR FURTHER INFORMATION CONTACT: Elysium Drumm, VA Housing Loan Program, at 202-632-8790 or VAHLPNEPA.VBAVACO@va.gov.

SUPPLEMENTARY INFORMATION: The most significant element of the HLP is the provision of housing benefits that assist eligible Veterans in financing the purchase, construction, repair, or improvement of a home for their personal occupancy. See 38 U.S.C. 3701 et seq. VBA administers these and other housing benefits, such as assistance to Veterans who want to adapt their homes, to assist Veterans in readjusting to civilian life. The HLP provides what can be, for some Veterans, their sole opportunity to obtain crucial housing loans and adaptations.

Through this PEIS, VA is using the NEPA process to evaluate the potential physical, environmental, cultural, and socioeconomic effects of the HLP; to invite public participation; and to assist with and inform future agency planning and decision making related to the HLP. The PEIS will also evaluate the HLP, which assists hundreds of thousands of Veterans each year across the United States and its territories, to ensure that VA appropriately considers the human environmental elements and effects specified in 40 CFR 1508.8 (i.e., ecological, aesthetic, historic, cultural, economic, social, or health, whether direct, indirect, or cumulative) in carrying out the various elements and aspects of the program. This PEIS is unique in that it addresses an existing program, and VA has no specific or immediate need to change its operational structure or procedures to address environmental impacts. Furthermore, the making of loan guaranties, direct loans, and grants do not typically, in and of themselves, result in direct environmental impacts. Environmental impacts, if they occur, would be the result of private citizen actions (e.g., construction of a house funded by VA-guaranteed loan financing) related to a specific property. In this case, the primary environmental impacts of concern for VA would be the potential indirect impacts from homeowner actions and the potentially significant cumulative impacts of small incremental actions on local and regional resources.

As part of the scoping process, VA encourages federal, state, tribal, and local entities; non-profit organizations; businesses; interested parties; and the general public to provide input on any areas of environmental concern relevant to the HLP, and suggestions regarding potential environmental impacts that should be evaluated. VA will consult with such parties during VA's preparation of the PEIS.

Signing Authority

The Secretary of Veterans Affairs, or designee, approved this document and authorized the undersigned to sign and submit the document to the Office of the Federal Register for publication electronically as an official document of the Department of Veterans Affairs. Jacquelyn Hayes-Byrd, Deputy Chief of Staff, Department of Veterans Affairs, approved this document on July 10, 2018, for publication.

Dated: July 10, 2018.
Jeffrey M. Martin,
Impact Analyst, Office of Regulation Policy & Management, Office of the Secretary, Department of Veterans Affairs.

[FR Doc. 2018-15073 Filed 7-13-18; 8:45 am]

BILLING CODE 8320-01-P